NUCLEAR REGULATORY COMMISSION

[Docket No. 030-04783]

Notice of Consideration of Amendment Request for the Dow Chemical Company and Release of Its Facility in Midland, MI

AGENCY: Nuclear Regulatory Commission.

ACTION: Notice of consideration of amendment request to Byproduct Material License No. 21-00265-06.

FOR FURTHER INFORMATION CONTACT: Dr. Peter J. Lee, Division of Nuclear Materials Safety, U.S. Nuclear Regulatory Commission, Region III, 801 Warrenville Road, Lisle, Illinois 60532-4351; telephone (630) 829-9870 or by email at pjl2@nrc.gov.

SUPPLEMENTARY INFORMATION:

I. Introduction

The U.S. Nuclear Regulatory Commission (NRC) is considering the issuance of an amendment to the Dow Chemical Company Byproduct Material License No. 21-00265-06, to remove the possession or use of thorium from its Midland, Michigan facility license and release that portion of the facility for unrestricted use.

The NRC staff has prepared an Environmental Assessment (EA) in support of this licensing action in accordance with the requirements of 10 CFR part 51. Based on the EA, the NRC has concluded that a Finding of No Significant Impact (FONSI) is appropriate.

II. EA Summary

The purpose of the proposed action is to remove the possession or use of thorium from its Midland, Michigan facility license and release that portion of the facility for unrestricted use. This license was approved for research and development of a thorium containing catalyst. On September 26, 2003, Dow Chemical Company submitted a license amendment request to remove the possession or use of thorium from its license. The Dow Chemical Company has conducted surveys of the facility and provided information to the NRC to demonstrate that the site meets the license criteria in subpart E of 10 CFR part 20 for unrestricted release. The staff has examined the Dow Chemical Company's request and the information that the licensee has provided in support of its request, including the surveys performed by the Dow Chemical Company to demonstrate compliance with 10 CFR 20.1402, “'Radiological Criteria for Unrestricted Use,”' to ensure that the NRC's decision is protective of the public health and safety and the environment. Based on its review, the staff has determined that the affected environment and the environmental impacts associated with the removal of the possession or use of thorium from Byproduct Material License No. 21-00265-06 are bounded by the impacts evaluated by the “Generic Environmental Impact Statement in Support of Rulemaking on Radiological Criteria for License Termination of NRC-Licensed Nuclear Facilities” (NUREG-1496). Additionally, no non-radiological impacts were identified. The staff also finds that the proposed release for unrestricted use of the Dow Chemical Company facility is in compliance with the 10 CFR part 20.1402 and no other activities in the area that could result in cumulative impacts.

III. Finding of No Significant Impact

The staff has prepared the EA (summarized above) in support of Dow Chemical Company's proposed license amendment to remove the possession or use of thorium from its Midland, Michigan facility license and release that portion of the facility for unrestricted use. On the basis of the EA, the staff has concluded that the environmental impacts from the proposed action would not be significant. Accordingly, the staff has determined that a FONSI is appropriate, and has determined that the preparation of an environmental impact statement is not warranted.

IV. Further Information

In accordance with 10 CFR 2.790 of the NRC's “Rules of Practice,” Dow Chemical Company's request, the EA summarized above, and the documents related to this proposed action are available electronically for public inspection and copying from the Publicly Available Records (PARS) component of NRC's document system (ADAMS). ADAMS is accessible from the NRC Web site at http://www.nrc.gov/reading-rm/adams.html. These documents include Dow Chemical Company's letter dated September 26, 2003, with enclosures (Accession No. ML033570177); and the EA summarized above (Accession No. ML040280082).These documents may also be viewed electronically on the public computers located at the NRC's Public Document Room (PDR), O 1 F21, One White Flint North, 11555 Rockville Pike, Rockville, MD 20852. The PDR reproduction contractor will copy documents for a fee.

Dated at Lisle, Illinois, this 27th day of January 2004.
Christopher G. Miller,
Chief, Decommissioning Branch, Division of Nuclear Materials Safety, RIII.

[FR Doc. 04-2665 Filed 2-6-04; 8:45 am]

BILLING CODE 7590-01-P